DEPARTMENT OF TRANSPORTATION

Federal Motor Carrier Safety Administration

Phased Implementation of Informal Hearing Process

AGENCY: Federal Motor Carrier Safety Administration, DOT.

ACTION: Notice.

SUMMARY: The FMCSA is continuing a phased implementation of a new provision related to informal hearings in the 49 CFR part 386 Rules of Practice. On March 17, 2006, this alternative was implemented in States included in the Midwest Service Center geographic area. Beginning on February 13, 2007 this alternative is being expanded to States included in the Eastern Service Center geographic area.

DATES: The first phase began on March 17, 2006. The second phase will begin on February 13, 2007.

SUPPLEMENTARY INFORMATION: The Federal Motor Carrier Safety Administration's (FMCSA) final rule revising 49 CFR part 386, “Rules of Practice for Motor Carrier, Broker, Freight Forwarder, and Hazardous Materials Proceedings” (Rules of Practice), published on May 18, 2005, (70 FR 28467) became effective on November 14, 2005. As revised, the Rules of Practice permit a respondent in a civil penalty proceeding to request an informal hearing as an alternative to either a request for a formal hearing or a request to submit written evidence without a hearing. The Rules of Practice, however, do not prescribe specific procedures for conducting informal hearings.

As the informal hearing process is a new alternative for motor carriers, FMCSA is implementing this alternative in phases to allow FMCSA time to evaluate and refine how the informal hearing process is conducted.

The informal hearing process was initially implemented on March 17, 2006, (71 FR 13894) in the States served by the Midwest Service Center. FMCSA only considered requests for an informal hearing from respondents with a principal place of business within States included in the FMCSA Midwest Service Center's geographic area. That area encompasses the States of Illinois, Indiana, Iowa, Kansas, Michigan, Minnesota, Missouri, Nebraska, Ohio and Wisconsin.

The agency intended to expand implementation of the informal hearing process nationwide within a year of the effective date of the Rules of Practice. However, due to the limited number of requests for informal hearings, the agency has not collected sufficient data to evaluate and refine this new process. Therefore, FMCSA has decided to expand the informal hearing process to States in one additional Service Center to allow for continued evaluation of the process.

At this time, FMCSA is expanding use of the informal hearing process to States included in the FMCSA Eastern Service Center geographic area. This area encompasses the States of Connecticut, Delaware, Maine, Maryland, Massachusetts, New Hampshire, New Jersey, New York, Pennsylvania, Rhode Island, Vermont, Virginia, West Virginia, the District of Columbia and Puerto Rico. This second phase of implementation begins on February 13, 2007. FMCSA will publish any subsequent notices of implementation in the Federal Register.

When an informal hearing request is granted, the hearing officer will provide written information to each respondent about the procedures that will govern the hearing.

Issued on: February 6, 2007.
John H. Hill,
Administrator.

[FR Doc. E7-2457 Filed 2-12-07; 8:45 am]

BILLING CODE 4910-EX-P